DEPARTMENT OF STATE

[Public Notice 10470]

30-Day Notice of Proposed Information Collection: Application for Immigrant Visa and Alien Registration

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to August 27, 2018.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

SUPPLEMENTARY INFORMATION:

• Title of Information Collection: Application for Immigrant Visa and Alien Registration.

• OMB Control Number: 1405-0015.

• Type of Request: Revision of a Currently Approved Collection.

• Originating Office: Bureau of Consular Affairs, Visa Office (CA/VO/L/R).

• Form Number: DS-230.

• Respondents: Applicants for Cuban Family Reunification Parole or Immigrant Visas that are not able to use the DS-260, where authorized by the Department.

• Estimated Number of Respondents: 20,000.

• Estimated Number of Responses: 20,000.

• Average Time per Response: 125 minutes.

• Total Estimated Burden Time: 41,667 annual hours.

• Frequency: Once per application.

• Obligation to respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Application for Immigrant Visa and Alien Registration (DS-230) is used to collect biographical information from individuals seeking for Cuban Family Reunification Parole. While this discretionary parole authority is exercised by the Department of Homeland Security, an applicant must demonstrate that he or she is eligible for an immigrant visa. In rare circumstances, an applicant for an immigrant visa may complete the DS-230 in lieu of the online version of the application (DS-260, OMB Control Number 1405-0185). The consular officer uses the information collected to elicit information necessary to determine an applicant's immigrant visa eligibility.

Methodology

Applicants will complete the DS-230 and submit it to a consular post. A consular officer will review the application to determine whether the applicant is eligible for an immigrant visa.

Morgan Andrew Parker,
Acting Deputy Assistant Secretary, Bureau of Consular Affairs, Department of State.

[FR Doc. 2018-15957 Filed 7-25-18; 8:45 am]

BILLING CODE 4710-06-P